DEPARTMENT OF HEALTH AND HUMAN SERVICES

Announcement of Availability of Funds for One National Family Planning Training Center Cooperative Agreement

AGENCY: Department of Health and Human Services, Office of the Secretary, Office of Public Health and Science, Office of Population Affairs.

ACTION: Notice.

Announcement Type: Initial Competitive Cooperative Agreement.

CFDA Number: 93.260.

DATES: To receive consideration, applications must be received by the Office of Grants Management, Office of Public Health and Science (OPHS), Department of Health and Human Services (DHHS) no later than 5 p.m. Eastern Time on July 6, 2007. The application due date requirement in this announcement supersedes the instructions in the OPHS-1 form. Applications that do not meet the deadline will be returned to the applicant unread. See heading “IV. APPLICATION and SUBMISSION INFORMATION” for information on application submission mechanisms.

Executive Order 12372 comment due date: The State Single Point of Contact (SPOC) has 60 days from the application due date to submit any comments.

ADDRESSES: Application kits may be obtained electronically by accessing Grants.gov at http://www.grants.gov or GrantSolutions at http://www.GrantSolutions.gov. To obtain a hard copy of the application kit, contact WilDon Solutions at 1-888-203-6161. Applicants may fax a written request to WilDon Solutions at (703) 351-1138 or e-mail the request to OPHSgrantinfo@teamwildon.com. Applications must be prepared using Form OPHS-1 “Grant Application,” which is included in the application kit.

FOR FURTHER INFORMATION CONTACT: WilDon Solutions, Office of Grants Management Operations Center, 1515 Wilson Blvd., Third Floor Suite 310, Arlington, VA 22209 at 1-888-203-6161, e-mail OPHSgrantinfo@teamwildon.com, or fax 703-351-1138.

SUPPLEMENTARY INFORMATION: Executive Summary: This announcement seeks applications from public and nonprofit private entities for one cooperative agreement to establish and operate a National Family Planning Training Center (NTC). A cooperative agreement is a type of grant assistance where “substantial involvement” is anticipated between the awarding agency and the recipient during performance of the contemplated project or activity. The cooperative agreement recipient is held to all requirements for Federal grants. The purpose of the NTC is to assist in planning, development, and coordination of training activities that will enhance and support training of personnel to carry out family planning service programs described in section 1001 of the Title X statute. The NTC cooperative agreement is national in scope. The successful applicant will work closely with the Office of Population Affairs/Office of Family Planning and other Title X-funded training entities.

I. Funding Opportunity Description

The Office of Population Affairs (OPA)/Office of Family Planning (OFP) announces the availability of approximately $300,000-$500,000 of Fiscal Year (FY) 2007 funds to support one National Family Planning Training Center cooperative agreement. Budgets submitted as part of the application for these funds should not exceed $500,000, inclusive of indirect costs.

The NTC cooperative agreement is intended to serve a national network of family planning providers to ensure that clients receive quality family planning services. In order to maximize the impact of the cooperative agreement on a national level, it is expected that the successful applicant will work closely with the OFP Central and Regional Offices, the ten Title X Regional Training Centers (RTCs), the Family Planning Male Training Center (FPMTC), and the Family Planning Clinical Training Center, as well as other federally funded training entities. It is expected that the project will have three major components:

A. Compile, Coordinate, and Disseminate Training Information—This includes establishing mechanisms for identifying, cataloging, and disseminating information related to training resources, materials, and events among Title X-funded training grantees, OPA/OFP Central and Regional Offices, and Title X service providers.

B. Conduct Training Meetings—In order to maximize the impact of Title X family planning training activities, it is necessary to periodically bring OFP staff, Title X grantees, and/or training entities together for planning, developing, coordinating, enhancing, and/or providing training at the national, regional and local levels. In addition, it is periodically necessary to bring together experts in various fields in order to ensure that training activities include the most current, evidence-based information available. Applicants should plan for: a) Up to two expert panels or work groups per year for up to 25 participants each; b) one meeting of Title X Federal staff and Title X-funded training grantees per year which will include up to 50 participants; c) one intensive, week-long health educator training each year for up to 35 participants, not including Federal officials and trainers; d) one meeting per year for up to 250 participants; and, e) a total of two national meetings of all Title X grantees (services, training, research) during the project period (approximately 300 participants each).

C. Develop Training Resources and/or Materials—In collaboration with the OPA/OFP, the NTC is expected to identify issues and/or topics with broad impact on the Title X service delivery system, and for which a consistent national training approach would serve the needs of service delivery providers. Annually, the NTC and OPA/OFP should choose up to two of these issues or topics for development and dissemination of training resources for use by Title X-funded projects.

Program Statute, Regulations, Guidelines, Legislative Mandates, and Program Priorities

Applicants should use the Title X legislation, regulations, legislative mandates, and other information included in this announcement, and in the application kit, to guide them in developing their applications.

Statute: Title X of the PHS Act, 42 U.S.C. 300 et seq., authorizes grants for projects to provide family planning services to persons from low-income families and others. Section 1001 of the Act, as amended, authorizes grants “to assist in the establishment and operation of voluntary family planning projects which shall offer a broad range of acceptable and effective family planning methods and services (including natural family planning methods, infertility services, and services for adolescents).” Section 1003 of the Act, as amended, authorizes the Secretary of Health and Human Services to award grants to entities to provide training for personnel to carry out family planning service programs as described in Section 1001 of the Act. Section 1008 of the Act, as amended, stipulates that “none of the funds appropriated under this title shall be used in programs where abortion is a method of family planning.”

Regulations and Program Guidelines: The regulations set out at 42 CFR part 59, subpart C, govern grants to provide training for family planning service providers. Prospective applicants should refer to the regulations in their entirety. Training provided must be consistent with the requirements for providing family planning services under Title X. These requirements can be found in the Title X statute, the implementing regulations (42 CFR part 59, subpart A), and the “Program Guidelines for Project Grants for Family Planning Services,” (January 2001). In addition, any training regarding sterilization of clients as part of the Title X program must be consistent with 42 CFR part 50, subpart B (“Sterilization of Persons in Federally Assisted Family Planning Projects”). Copies of the Title X statute, applicable regulations, and Program Guidelines can be obtained by contacting the OPHS Office of Grants Management, may be downloaded from the Office of Population Affairs (OPA) Web site at http://opa.osophs.dhhs.gov, and are provided in the application kit for this announcement.

Legislative Mandates: The following legislative mandates have been part of the Title X appropriations language for each of the last several years. In developing a proposal, the applicant should consider how these legislative mandates may apply to family planning training, and incorporate them as appropriate.

“None of the funds appropriated in this Act may be made available to any entity under title X of the Public Health Service Act unless the applicant for the award certifies to the Secretary that it encourages family participation in the decision of minors to seek family planning services and that it provides counseling to minors on how to resist attempts to coerce minors into engaging in sexual activities;” and “Notwithstanding any other provision of law, no provider of services under title X of the Public Health Service Act shall be exempt from any State law requiring notification or the reporting of child abuse, child molestation, sexual abuse, rape, or incest.”

Program Priorities: Each year the OFP establishes program priorities that represent overarching goals for the Title X program. Applications should include content that addresses the 2007 Title X program priorities as they relate to the requirements of this training announcement, and should provide evidence of the applicant's capacity to address future program priorities, as they evolve. The 2007 program priorities are as follows:

1. Assuring ongoing high quality family planning and related preventive health services that will improve the overall health of individuals, with priority for services to individuals from low-income families;

2. Assuring access to a broad range of acceptable and effective family planning methods and related preventive health services that include natural family planning methods, infertility services, and services for adolescents; highly effective contraceptive methods; breast and cervical cancer screening and prevention services that correspond with nationally recognized standards of care; STD and HIV prevention education, counseling, testing, and referral; activities that promote positive family relationships for the purpose of increasing family participation in reproductive health decision-making; extramarital abstinence education and counseling; and other preventive health services. The broad range of services does not include abortion as a method of family planning;

3. Assuring compliance with State laws requiring notification or the reporting of child abuse, child molestation, sexual abuse, rape, or incest;

4. Encouraging participation of families, parents, and/or legal guardians in the decision of minors to seek family planning services; and providing counseling to minors on how to resist attempts to coerce minors into engaging in sexual activities;

5. Addressing the comprehensive family planning and other health needs of individuals, families, and communities through outreach to hard-to-reach and/or vulnerable populations, and partnering with other community-based health and social service providers that provide needed services.

II. Award Information

The OPA/OFP anticipates awarding one National Family Planning Training Center cooperative agreement, funded with FY 2007 funds, in the amount of $300,000-$500,000. Total funding available is inclusive of indirect costs. The successful applicant should anticipate substantial involvement of the OFP project officer in the conduct of this cooperative agreement. The cooperative agreement will be funded in annual increments (budget periods), and may be approved for a project period of up to four years. The applicant should include a detailed budget for year one of the project period, and project total funding required for each subsequent year on the Standard Form (SF) 424 and SF 424A included in the Form OPHS-1 “Grant Application.” Funding for all budget periods beyond the first year of the cooperative agreement is contingent upon the availability of funds, satisfactory progress of the project, and adequate stewardship of Federal funds.

III. Eligibility Information

1. Eligible Applicants: Any public or nonprofit private entity located in a State (which includes one of the 50 United States, the District of Columbia, Commonwealth of Puerto Rico, U.S. Virgin Islands, Commonwealth of the Northern Mariana Islands, American Samoa, Guam, Republic of Palau, Federated States of Micronesia, and the Republic of the Marshall Islands) is eligible to apply for a cooperative agreement under this announcement. Faith-based organizations are eligible to apply for this Title X national family planning training center cooperative agreement.

2. Cost Sharing: None required.

IV. Application and Submission Information

1. Address to Request Application Package: Application kits may be obtained electronically by accessing Grants.gov at http://www.grants.gov or GrantSolutions at http://www.GrantSolutions.gov. To obtain a hard copy of the application kit, contact WilDon Solutions at 1-888-203-6161. Applicants may fax a written request to WilDon Solutions at (703) 351-1138 or e-mail the request to OPHSgrantinfo@teamwildon.com. Applications must be prepared using Form OPHS-1 “Grant Application,” which is included in the application kit.

2. Content and Form of Application Submission: Applications must be submitted on the Form OPHS-1 and in the manner prescribed in the application kit. The application narrative should be limited to 75 double-spaced pages using an easily readable serif typeface such as Times Roman, Courier, or GC Times, 12 point font. The page limit does not include budget; budget justification; required forms, assurances, and certifications as part of the OPHS-1; or appendices. All pages, charts, figures and tables should be numbered, and a table of contents should be provided. The application narrative should be numbered separately and clearly show the 75 page limit. If the application narrative exceeds 75 pages, only the first 75 pages of the application narrative will be reviewed. All information that is critical to the proposed project should be included in the body of the application. Appendices may provide curriculum vitae, organizational structure, examples of organizational capabilities, or other supplemental information which supports the application. However, appendices are for supportive information only, and should be limited to only that which is necessary to support the application narrative. Appendices should be clearly labeled.

For all non-governmental applicants, documentation of nonprofit status must be submitted as part of the application. Any of the following constitutes acceptable proof of such status:

a. A reference to the applicant organization's listing in the Internal Revenue Service's (IRS) most recent list of tax-exempt organizations described in the IRS code;

b. A copy of a currently valid IRS tax exemption certificate;

c. A statement from a State taxing body, State attorney general, or other appropriate State official certifying that the applicant organization has a nonprofit status and that none of the net earnings accrue to any private shareholders or individuals; and,

d. A certified copy of the organization's certificate of incorporation or similar document that clearly establishes nonprofit status.

For local, nonprofit affiliates of State or national organizations, a statement signed by the parent organization indicating that the applicant organization is a local nonprofit affiliate must be provided in addition to any one of the above acceptable proof of nonprofit status.

A Dun and Bradstreet Universal Numbering System (DUNS) number is required for all applications for Federal assistance. Organizations should verify that they have a DUNS number or take the steps needed to obtain one. Instructions for obtaining a DUNS number are included in the application package, or can be downloaded from the OPA Web site.

Applications must include a one-page abstract of the proposed project. The abstract will be used to provide reviewers with an overview of the application, and will form the basis for the application summary in grants management documents.

Application Requirements and Content

General Requirements: Applicant organizations should demonstrate significant expertise and experience in the design, development, implementation, successful completion, and evaluation of family planning and related preventive health training activities. Applicants should also describe experience with successfully managing training resources and working with other training entities, consultants, service providers, and Federal officials. The applicant should demonstrate familiarity with general public health principles; national standards of care for family planning and related preventive health issues; program management principles; fiscal issues germane to Title X providers; information/education/communication concepts; evidence-based learning theory; and adult learning behavior, including the applicability to proposed training activities.

Applicants should provide evidence of familiarity with Title X family planning requirements, the Title X grantee structure; and Title X-funded training entities (e.g., the ten Title X Regional Training Centers, the Family Planning Male Training Center, and the Family Planning Clinical Training Center). The application should include familiarity with and willingness to collaborate with other federally funded training entities (e.g., Health Resources and Services Administration [HRSA] AIDS Education Training Centers [AETCs]; Centers for Disease Control and Prevention [CDC] Prevention Training Centers [PTCs]; Substance Abuse and Mental Health Service Administration [SAMHSA] Addiction Technology Transfer Centers [ATTCs]; Administration for Children and Families [ACF] Infant Adoption Awareness Training Program [IAATP], etc.) in order to maximize resources and achieve program objectives.

Applicants must provide evidence of relevant administrative, management, and training expertise and experience that will ensure successful completion of all component requirements of the NTC. The proposed program plan should fully describe a strategy for each component, as well as an ongoing system for planning, monitoring, and evaluation. Goal statement(s) and related outcome objectives should be specific, measurable, achievable, realistic and time-framed (S.M.A.R.T.). The design of all training activities and materials, including all curricula and topic content, should be consistent with Title X statute, regulations, legislative mandates, program guidelines, and program priorities.

It is expected that the applicant will provide detailed information regarding organizational capacity and expertise of proposed staff. Applicants should propose a staffing pattern that includes sufficient detail for reviewers to assess adequacy related to the proposed work plan, and the expertise required to carry out the project.

The proposed budget should be consistent with the requirements of the national family planning training center cooperative agreement. Proposed project activities should be tied directly to budgeted costs. Both the final project plan and plan for utilization of funds will be negotiated with the OFP project officer within 60 days of the cooperative agreement award, and annually during the project period. It is expected that the successful applicant will maintain flexibility in schedule and resource planning in order to respond to emerging needs, lessons learned, and annual Title X program priorities.

Component requirements: Applicants should be specific in describing their proposed approach to the requirements under each of the following components:

A. Compile, Coordinate, and Disseminate Training Information: The purpose of this component is to promote the sharing of information among Title X-funded training entities in order to decrease duplication and maximize training resources. The applicant should include a plan for:

(1) Gathering stakeholder (Title X-funded training entities, Federal officials, etc.) input regarding this component;

(2) Ongoing collaboration with Title X-funded training entities;

(3) Ongoing interaction with other federally funded training entities;

(4) Systematically identifying training materials developed or used by all Title X-funded training entities over the past five years;

(5) Collecting current training information/materials/modules, and training calendars;

(6) Developing a catalog or index of available materials;

(7) Developing a speaker/consultant directory;

(8) Establishing a mechanism to ensure that the catalog/index of training materials and speaker/consultant directory are updated at least annually;

(9) Developing, implementing, and maintaining a NTC web site;

(10) Developing mechanisms for disseminating training information/materials;

(11) Proposing other tools or strategies for facilitating sharing of information among Title X training centers and projects. This might include a list serve of Title X-funded training centers, newsletters, linkages to other Title X- and federally-funded training entity web sites, etc.; and,

(12) Utilizing electronic technologies to address many of the requirements of this component. B. Conduct Training Meetings: The purpose of this component is to ensure that personnel working in Title X family planning clinics have access to the knowledge, skills, and attitudes necessary for the effective delivery of family planning services. The successful applicant will be responsible for conducting multiple meetings during each year of the project period. Planning for each meeting should include face-to-face meetings with the OFP (as indicated for the size and complexity of the meeting). All lodging and per diem expenses should not exceed the most current Federal rates. Travel expenses should be limited to the most reasonable fares available. In close collaboration with the OFP project officer, the applicant should describe an approach for planning and conducting the five distinct types of meetings as described below:

(1) Up to two expert panels or work groups per year for up to 25 participants each. These expert panels will help ensure that training information is evidence-based and current. Plans for each of these meeting should include:

(a) Developing the meeting agenda;

(b) Designing and disseminating meeting information;

(c) Arranging for hotel/meeting space for all aspects of the meeting (lodging rates are not to exceed the Federal rates for the year in which the meetings are held);

(d) Working with meeting site on all meeting requirements before, during, and after the meeting;

(e) Providing for expenses for up to 20 non-Federal participants (including travel, lodging, and per diem);

(f) Developing and implementing a Web site for meeting information dissemination and registration;

(g) Interfacing with meeting participants, including on-site check in;

(h) Compiling and producing all meeting materials;

(i) Identifying, contacting, and arranging for approximately 3 non-Federal speakers or consultants at a cost not to exceed $2000 per consultant (including consultant fees, travel expenses, lodging, and per diem);

(j) Providing for meeting facilitation;

(k) Evaluating the success of the meeting in achieving overall meeting objectives;

(l) Producing and disseminating meeting proceedings as appropriate; and,

(m) Compiling and disseminating information and/or materials identified or developed as a result of the meeting.

(2) One annual meeting of Title X Federal staff and Title X-funded training grantees for up to 50 participants. This meeting will provide an opportunity for Federal family planning staff and Title X-funded training entities to discuss issues that impact training, and plan for the upcoming year. The OPA expects that the NTC will be responsible for all aspects of meeting planning, logistics, management, and follow-up as listed above, with the exception of providing for participant expenses.

(3) One intensive, week-long training institute for male health educators each year for up to 35 participants, not including Federal officials and trainers. The purpose of this training event is to ensure that health educators working directly with male clients in Title X clinics have the knowledge skills, and attitudes to provide accurate, evidence based information. Preparation for this meeting requires significant planning and coordination among trainers and OPA/OFP staff. In close collaboration with the OPA/OFP project officer, the applicant should describe an approach to this meeting that includes:

(a) Planning the Meeting

1. Meeting budget;

2. Meeting logistics (hotel, location, set-up, all meeting arrangements, etc. Hotel room cost should not exceed the most current Federal lodging rates);

3. Arrange for planning meetings with trainers and OPA/OFP staff, including at least two conference calls and one face-to-face meeting at the OPA/OFP office in Rockville.

4. Arrange for/communicate with trainers, including all correspondence and travel arrangements for planning meetings and health educator training. Consultant fees per trainer (approximately seven trainers) should average approximately $3,500 including preparation time, participation in all planning meetings, and the health educator training event. Travel expenses, lodging, and per diem for the face-to-face meeting and health educator event are provided in addition to consultant fees;

5. Prepare for AV needs;

6. Coordinate with OFP project officer in nomination, application process, and selection of trainees;

7. Develop a list of participants, trainers, and others to be determined with input from OFP project officer;

8. Provide for expenses for up to 35 participants for up to six days on-site at the health educator training event (this includes lodging and per diem, but does not include round trip travel expenses to the training site).

9. Design and implement a web site with meeting information/registration/etc.

10. Coordinate agenda development and training outline;

11. Produce meeting and training materials (signage, packets, notebooks, name tags, etc.);

12. Develop participant evaluation forms; and,

13. Any other activities/responsibilities for planning the meeting, working with collaborators and speakers, and disseminating meeting information.

(b) Managing the Meeting On-site

1. Assess set-up/modify meeting room(s) as needed (including AV);

2. Coordinate with hotel/meeting site throughout meeting;

3. Set up for registration and materials dissemination;

4. Staff registration table;

5. Coordinate speaker arrival/address speaker needs;

6. Identify and appropriately address issues that arise throughout meeting;

7. Manage all on-site meeting issues (financial, logistics, etc.);

8. Distribute and collect participant meeting evaluation forms; and,

9. Any other issues related to managing the meeting on-site.

(c) Follow-up

1. Evaluate the meeting

a. Process of planning and conducting meeting;

b. Outcome, including meeting participation and participant evaluation;

2. Produce/disseminate proceedings, as indicated;

3. Compile/make available information or materials identified/developed as a result of the meeting;

4. In collaboration with OFP, produce and disseminate trainer thank-you letters/other correspondence as necessary;

5. Ensure all meeting expenses are finalized and paid in a timely manner;

6. Produce and submit final meeting accounting and evaluation report within 45 days after the meeting is held; and,

7. Any other meeting follow-up identified and agreed upon by OFP and the successful applicant.

(4) One HIV grantee training and technical assistance meeting (HIV meeting) per year for up to 250 participants. The purpose of this meeting is to improve service delivery related to HIV counseling, testing, and referral. It is expected that this meeting will include OPA/OFP staff, Title X-funded training centers, and service grantees and projects that receive Title X supplemental HIV prevention integration funds. Information provided at the meeting should include relevant, current, evidence-based information on HIV/AIDS issues, as well as an opportunity for Title X HIV grantees and projects to share information and experiences. It is expected that planning for the first HIV meeting will begin very soon after the NTC cooperative agreement is funded, and the meeting will be held before the end of year one of the project period.

(5) Two National Grantee Meetings (NGM) for all Title X-funded grantees (services, training, research) for up to 300 participants each. These two meetings should provide current, relevant, evidence-based information on family planning and related reproductive and preventive health issues for men and women; as well as Federal policy information and other relevant issues that impact Title X service grantees and the training and research grantees that support Title X service delivery. It is anticipated that the first NGM will take place early during year two of the project period, and a second NGM during year four of the project period. Planning for the first meeting should begin during the first year of the project period, and the meeting will be held early in year two of the project period.

It is expected that persons working in Title X-funded agencies will attend the HIV meeting and the NGM at nominal or no charge. The successful applicant will be responsible for all costs associated with planning and conducting these meetings, excluding personal participant expenses such as travel, lodging, and per diem.

In close collaboration with the OFP project officer, the successful applicant will be responsible for all aspects of planning, producing, and evaluating both the HIV meetings and the NGMs. The process for planning these meetings will be negotiated with the OFP project officer within 45 days after funds are awarded. If a planning committee is used, it is expected that the NTC will be responsible for all costs associated with planning committee meetings.

The expectations for both the HIV meetings and the NGMs are the same. All aspects of these meetings, including, but not limited to, agenda, speakers, and meeting location, will be approved by the OFP project officer prior to implementation. At a minimum, the successful applicant will be responsible for the following, and should address how this will be accomplished in the project proposal:

(a) Planning the Meeting

1. Meeting budget;

2. Planning committee (if determined to be necessary);

3. Meeting logistics (hotel, location, set-up, all meeting arrangements, etc.);

4. Arrange for/communicate with speakers/moderators, including invitation letters and travel arrangements (cost per speaker should not exceed $2,000 for travel expenses and consultant fees);

5. Prepare for AV needs;

6. Develop invitation list of Title X grantee agencies, Federal participants, speakers, and others to be determined with input from OFP project officer;

7. Produce and disseminate a “Save the Date” card (may be by electronic means);

8. Design and implement a web site with meeting information/registration/etc.;

9. Coordinate agenda development;

10. Secure method for granting Continuing Education Units (CEUs);

11. Produce meeting materials (signage, packets, notebooks, name tags, etc.);

12. Develop participant evaluation forms; and,

13. Any other activities/responsibilities for planning the meeting, working with collaborators and speakers, and disseminating meeting information.

(b) Managing the Meeting On-site

1. Assess set-up/modify meeting room(s) as needed (including AV);

2. Coordinate with hotel/meeting site throughout meeting;

3. Set up for registration and materials dissemination;

4. Staff registration table throughout meeting;

5. Coordinate speaker arrival/address speaker needs (speaker ready-room);

6. Identify and appropriately address issues that arise throughout meeting;

7. Manage all on-site meeting issues (financial, logistics, etc.);

8. Distribute and collect participant meeting evaluation forms; and,

9. Any other issues related to managing the meeting on-site.

(c) Follow-up

1. Evaluate meeting;

a. process of planning and conducting meeting;

b. outcome, including meeting participation and participant evaluation;

2. Produce/disseminate proceedings (if determined to be necessary);

3. Compile/make available information or materials identified/developed as a result of the meeting;

4. In collaboration with OFP, produce and disseminate speaker/moderator thank-you letters/other correspondence as necessary;

5. Ensure that all meeting expenses are finalized and paid in a timely manner;

6. Produce and submit final meeting accounting and evaluation report within 45 days after the meeting is held; and,

7. Any other meeting follow-up identified and agreed upon by the OFP project officer and the successful applicant.

C. Develop Training Resources and/or Materials—The purpose of this component is to identify issues and/or topics with broad impact on the Title X service delivery system, and provide a consistent national training approach that would serve the needs of service delivery providers. In close collaboration with the OFP project officer, the successful applicant will identify and select topics for which a national training approach would be beneficial to Title X service providers. Each year, the NTC and OFP project officer should select up to two of these topics to be developed into training resources and/or modules for use by Title X-funded projects. The NTC is expected to develop mechanisms for dissemination of these training materials to Title X-funded entities. This might include electronic as well as hard copy availability. Applications should include strategies for addressing the following:

(1) All aspects of researching evidence-based information on the chosen topic(s);

(2) Consulting with experts in the topic(s) chosen, as applicable;

(3) Preparing an overview and outline of the module/materials to be developed, including references;

(4) Obtaining OFP project officer approval prior to development;

(5) Developing strategies for notification and dissemination of modules/materials to Title X-funded entities. This may include hard copy, as well as electronic availability; and,

(6) Developing a strategy for review and updating of topic list at least annually.

Schedule of Cooperative Agreement Requirements—The following represents an overview of general activities for years one and two of the project. Assuming a four-year project period, activities and timeline for years three and four will be determined during year two. Activities and requirements will be similar to those in years one and two. This is not intended to be an exhaustive list, but rather to provide a general outline of NTC activities throughout the project period. The successful applicant should plan to have ongoing verbal and electronic communication with the OFP project officer, and to meet with the OFP project officer, Director, OFP, and others identified by the OFP at least every three months during year one and every six months during year two of the project. The applicant should plan for at least two of the four meetings in year one to occur face-to-face at the OFP office in Rockville, MD. At least one face-to-face meeting will be held in subsequent years of the project. The meeting schedule for years three and four will be negotiated during year two of the project. The year one budget submitted with this application; should reflect communication and required meetings with the OFP project officer.

Year One—In close collaboration with the OFP project officer,

1. Within 30 days of date of Notice of Grant Award (NGA)—with OFP in Rockville, MD.

2. Year 1—It is expected that the final project plan and timeline will be developed in the first three months of the project, and that implementation of the plan will begin in the first half of the first year. The plan should include a timeline for implementation of all activities. It is expected that planning for the first HIV and national grantee meetings will begin soon after funding in the first project year.

a. Establish National Training Center operations, including finalizing staff;

b. Finalize a timeline for year one activities;

c. Establish and implement a system for ongoing communication with other Title X-funded training entities;

d. Develop and implement a system for collecting, compiling, and disseminating training materials from Title X-funded training entities, including developing and maintaining an index or catalog of materials;

e. Develop criteria for and establish an online directory of training consultants, including a mechanism for ensuring that information is current:

f. Assess current administrative, management, fiscal, clinical, and information/education issues facing providers of Title X-funded services;

g. Identify current Federal priorities and issues that impact Title X service delivery;

h. Identify and plan meetings to be held in year one of the project;

i. Conduct meetings as agreed upon with OFP project officer;

j. Plan and conduct the year one HIV grantee meeting;

k. Begin planning the NGM to be held early in year two of the project;

l. Identify possible topics for development of training materials;

m. Determine which topic(s) will be developed into training materials;

n. Develop and disseminate training module(s);

o. Draft a plan for training events to be held in subsequent project years; and,

p. Develop and submit non-competing continuation application for year two of the project, including progress report for year one and project plan, budget, and budget justification for year two.

3. Year 2

a. Review program plan and revise/modify as necessary;

b. Assess implementation and status of year one activities. Modify as necessary;

c. Review Title X priorities and their impact on training activities;

d. Review issues impacting service delivery;

e. Establish a timeline for year two activities;

f. Identify focus of training meetings to be held in year two;

g. Plan and conduct small meetings as agreed upon with OFP project officer;

h. Continue collecting, compiling, and disseminating training materials from other Title X-funded training entities, ensuring that all materials are the most current available;

i. Ensure that the consultant directory is current;

j. Plan and conduct the year two HIV grantee meeting;

k. Plan and conduct the National Grantee Meeting;

l. Review and update possible topics for development of training modules;

m. Select, develop, and disseminate training module(s);

n. Review and revise the plan for training events to be held in subsequent project years;

o. Develop and submit non-competing continuation application for year three of the project, including progress report for year two and project plan and budget for year three;

p. Establish schedule for meetings with OFP project officer; and,

q. Finalize activities for years three and four of the project period.

3. Submission Dates and Times: To be considered for review, applications must be received by the Office of Public Health and Science, Office of Grants Management, by 5 p.m. Eastern Time on July 6, 2007. Applications will be considered as meeting the deadline if they are received on or before the deadline date. The application due date requirement in this announcement supersedes the instructions in the OPHS-1 form.

Submission Mechanisms The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the cooperative agreement announcement will not be accepted for review and will be returned to the applicant.

While applications are accepted in hard copy, the use of the electronic application submission capabilities provided by the Grants.gov and GrantSolutions.gov systems is encouraged. Applications may only be submitted electronically via the electronic submission mechanisms specified below. Any applications submitted via any other means of electronic communication, including facsimile or electronic mail, will not be accepted for review.

In order to apply for new funding opportunities which are open to the public for competition, you may access the Grants.gov Web site Portal at http://www.Grants.gov. All OPHS funding opportunities and application kits are made available on Grants.gov. If your organization has/had a grantee business relationship with a grant program serviced by the OPHS Office of Grants Management, and you are applying as part of ongoing grantee related activities, please access http://www.GrantSolutions.gov.

Electronic grant applications must be received no later than 5 p.m. Eastern Time on the deadline date specified in the DATES section of this announcement using one of the electronic submission mechanisms specified. All required hard copy original signatures and mail-in items must be received by the OPHS Office of Grants Management no later than 5 p.m. Eastern Time on the next business day after the deadline date specified in the DATES section of the announcement.

Applications will not be considered valid until all electronic application components, hard copy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web site Portal: The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program-related forms, or original materials as required by the announcement. It is imperative that the applicant review both the grant announcement, as well as the application guidance provided within the Grants.gov application package, to determine such requirements. Any required hard copy materials, or documents that require a signature, must be submitted separately via mail to the OPHS Office of Grants Management, and, if required, must contain the original signature of an individual authorized to act for the applicant agency and the obligations imposed by the terms and conditions of the grant award. When submitting the required forms, do not send the entire application. Complete hard copy applications submitted after the electronic submission will not be considered for review.

Electronic applications submitted via the Grants.gov Web site Portal must contain all completed online forms required by the application kit, the Program Narrative, Budget Narrative and any appendices or exhibits. All required mail-in items must received by the due date requirements specified above.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the GrantSolutions system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the GrantSolutions System: The electronic grants management system, http://www.GrantSolutions.gov, provides for applications to be submitted electronically. When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program-related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications: Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management c/o WilDon Solutions, Office of Grants Management Operations Center, 1515 Wilson Blvd., Third Floor Suite 310, Arlington, VA 22209, Attention Office of Public Health and Science/Office of Grants Management, regarding Office of Population Affairs/Office of Family Planning National Family Planning Training Center Cooperative Agreement, no later than 5 p.m. Eastern Time on the deadline date specified in the DATES section of the announcement. The application deadline date requirement specified in this announcement supersedes the instructions in the OPHS-1. Applications that do not meet the deadline will be returned to the applicant unread.

4. Intergovernmental Review: Applicants under this announcement are subject to the requirements of Executive Order 12372, “Intergovernmental Review of Federal Programs,” as implemented by 45 CFR part 100, “Intergovernmental Review of Department of Health and Human Services Programs and Activities.” As soon as possible, the applicant should discuss the project with the State Single Point of Contact (SPOC) for the state in which the applicant is located. The application kit contains the currently available listing of the SPOCs that have elected to be informed of the submission of applications. For those states not represented on the listing, further inquiries should be made by the applicant regarding the submission to the relevant SPOC. The SPOC should forward any comments to the OPHS Office of Grants Management, 1101 Wootton Parkway, Suite 550, Rockville, Maryland 20852. The SPOC has 60 days from the due date as listed in the DATES section of this announcement to submit any comments. For further information, contact the OPHS Office of Grants Management at 240-453-8822.

5. Funding Restrictions: The allowability, allocability, reasonableness and necessity of direct and indirect Costs that may be charged to OPHS grants are outlined in the following documents: OMB Circular A-21 (Institutions of Higher Education); OMB Circular A-87 (State and Local Governments); OMB Circular A-122 (Nonprofit Organizations); and 45 CFR part 74, Appendix E (Hospitals). Copies of the Office of Management and Budget (OMB) Circulars are available on the Internet at http://www.whitehouse.gov/omb/grants/grants_circulars.html.

Indirect costs are limited to eight percent (8%) of modified total direct costs as a flat amount for reimbursement under training grants (Grants Policy Directive Part 3.01: Post-Award-Indirect Cost and other Cost Policies, HHS transmittal 98.01).

6. Other Submission Requirements—Applicants must submit a one page abstract of the application.

V. Application Review Information

1. Criteria: Eligible cooperative agreement applications will be reviewed according to the following criteria, as set out in the Title X family planning training regulations at 42 CFR 59.206:

1. The degree to which the project plan adequately provides for the requirements set forth in the Title X regulations at 42 CFR 59.205 as they relate to the training expectations addressed in this announcement (25 points);

2. The extent to which the training program promises to fulfill the family planning services delivery needs of the area to be served (20 points);

3. The extent to which the proposed training program will increase and/or improve the delivery of services to people, particularly low-income groups, with a high percentage of unmet need for family planning services (15 points);

4. The administrative and management capability and competence of the applicant (15 points);

5. The competence of the applicant project staff in relation to the services to be provided (15 points); and,

6. The capacity of the applicant to make rapid and effective use of the grant assistance, including evidence of flexibility in the utilization of resources and in training plan design (10 points).

2. Review and Selection Process: The Office of Family Planning/Office of Population Affairs is responsible for evaluating applications and setting funding levels according to the criteria set out in 42 CFR 59.206. Eligible applications will be reviewed by a panel of independent reviewers and will be evaluated based on the criteria listed above. In addition to the independent review panel, there will be Federal staff reviews of each application for programmatic and grants management compliance.

Final award decisions will be made collaboratively by the Deputy Assistant Secretary for Population Affairs (DASPA) and the Director, Office of Family Planning. In making award decisions, one cooperative agreement will be awarded which best promotes the purposes of sections 1001 (family planning services) and 1003 (family planning training) of the Public Health Service Act, and the expectations of the cooperative agreement as described in this announcement. The decision will take into account the reasonableness of the estimated cost considering available funding, and the likelihood that the project activities will result in the benefits expected.

VI. Award Administration Information

1. Award Notices: The OPA does not release information about individual applications during the review process. When final funding decisions have been made, each applicant will be notified by letter of the outcome. The official document notifying an applicant that a project application has been approved for funding is the Notice of Grant Award (NGA), signed by the Director of the Office of Public Health and Science (OPHS), Office of Grants Management (OGM). This document specifies to the successful applicant the amount of money awarded, the purposes of the cooperative agreement, the length of the project period, terms and conditions of the cooperative agreement award, and the amount of funding, if any, to be contributed by the recipient to project costs. In addition, the NGA identifies the OPHS, OGM grants specialist and OFP project officer assigned to the cooperative agreement.

This cooperative agreement will be awarded for a project period of up to four years, and will be funded in annual increments (budget periods). Funding for all approved budget periods beyond the first year of the cooperative agreement is contingent upon submission and approval of a non-competing continuation application, satisfactory progress of the project, efficient and effective use of cooperative agreement funds, and the continued availability of funds.

2. Administrative and National Policy Requirements: In accepting this award, the cooperative agreement grant recipient stipulates that the award and any activities thereunder are subject to all provisions of 45 CFR parts 74 and 92, currently in effect or implemented during the period of the cooperative agreement.

Except as may otherwise be provided under the terms and conditions of the award, the grantee may copyright without prior approval any publications, films, or similar materials developed or resulting from a project supported by a grant under this part, subject, however, to a royalty-free, non-exclusive, and irrevocable license or right in the Government to reproduce, translate, publish, use, disseminate, and dispose of such materials and to authorize others to do so.

Federal grant support must be acknowledged in any publication developed or training provided using Title X funds. All publications developed or purchased with Title X funds must be consistent with the requirements of the program. The cooperative agreement recipient will be expected to make available, at cost, all materials developed with Title X funds as requested by other Title X projects.

The successful applicant will be responsible for the overall management of activities within the scope of the approved project plan, and will work closely with the OFP project officer. The project officer will review and approve all aspects of the planning, implementation, and evaluation of the project components, as well as plans for the use of resources as part of this cooperative agreement. Within 30 days of Notice of Grant Award, the successful applicant is expected to meet with the OFP project officer; Director, OFP; and others at the OFP Central Office in Rockville, MD to finalize a time line and schedule of activities for years one and two of the project. Schedule of activities for years three and four of the project will be developed and approved during year two of the project.

The OPHS requires all grant recipients to provide a smoke-free workplace and to promote the non-use of all tobacco products. This is consistent with the OPHS mission to protect and advance the physical and mental health of the American people.

The HHS Appropriations Act requires that when issuing statements, press releases, requests for proposals, bid solicitations, and other documents describing projects or programs funded in whole or in part with Federal money, grantees shall clearly state the percentage and dollar amount of the total costs of the program or project which will be financed with Federal money, and the percentage and dollar amount of the total costs of the project or program that will be financed by non-governmental sources.

3. Reporting: Each year of the project period, the cooperative agreement recipient is required to submit a non-competing application which includes an annual progress report for the current year, and a project work plan, budget, and budget justification for the upcoming year. The progress report should contain, at a minimum, a report on both process and outcome objectives, including evaluation of the activities as a whole, as well as for each component of NTC activities.

For component requirements, the progress report should contain, at a minimum, information related to the following:

Component A., Compile, Coordinate, and Disseminate Training Information: Obtaining and incorporating stakeholder input; gathering and cataloging training materials; design, implementation, and maintenance of NTC Web site; mechanisms for making information available; and, use of electronic technologies in addressing the requirements of this component.

Component B., Conduct Training Meetings: (a) Title of training event; (b) location; (c) topic(s) covered; (d) presenter(s) (as applicable); (e) number of participants; (f) agencies sponsoring participants; and (g) evaluation summary (including whether meeting objectives were met); and, (h) credit hours or CEUs available.

Component C., Develop Training Resources and/or Materials: The progress report should contain process and outcome information related to any materials developed as a result of this cooperative agreement.

All information should be provided in adequate detail for the reviewer to assess the planning, implementation, evaluation, and status of project activities compared to the approved work plan. If deviations from the approved work plan were necessary, the progress report should fully explain and justify modifications.

The work plan for the upcoming year should clearly reflect proposed NTC activities, including timeline; justification for any modifications from the previous year; S.M.A.R.T. objectives; and evaluation plan. The budget should reflect proposed costs to carry out the project plan. Sufficient detail should be provided so that the reviewer is able to determine the adequacy and appropriateness of budgeted items related to the proposed activities.

The cooperative agreement recipient is required to submit an annual Financial Status Report (FSR) within 90 days after the end of each budget period. Agencies that receive a total of $500,000 or greater of Federal funds must undergo an independent audit in accordance with OMB Circular A-133.

VII. Agency Contacts

Administrative and Budgetary Requirements

For application kits, submission of hard copy applications, and information on budget and business aspects of the application, please contact: WilDon Solutions, Office of Grants Management Operations Center, 1515 Wilson Blvd., Third Floor Suite 310, Arlington, VA 22209 at 1-888-203-6161, e-mail OPHSgrantinfo@teamwildon.com, or fax 703-351-1138.

Program Requirements

For information related to family planning program requirements, contact: WilDon Solutions, Office of Grants Management Operations Center, 1515 Wilson Blvd., Third Floor Suite 310, Arlington, VA 22209 at 1-888-203-6161, e-mail OPHSgrantinfo@teamwildon.com, or fax 703-351-1138. Identify that your inquiry is related to the Office of Population Affairs/Office of Family Planning program announcement for the National Family Planning Center Cooperative Agreement.

VIII. Other Information

Definitions: For the purposes of this announcement, the following definitions apply:

Family planning training—job-specific skill development, the purpose of which is to promote and improve the delivery of family planning services. Further description of family planning services may be found in the authorizing legislation, implementing regulations, and program guidelines.

Application—a request for financial support of a project submitted to OPA on specified forms and in accordance with instructions provided.

Cooperative Agreement—An award instrument of financial assistance where “substantial involvement” is anticipated between the HHS awarding agency and the recipient during performance of the contemplated project or activity. “Substantial involvement” means that the recipient can expect Federal programmatic collaboration or participation in managing the award. The entity that receives a Federal cooperative agreement assumes the legal and financial responsibility and accountability for the awarded funds and performance of activities approved for funding, and is held to all requirements for Federal grants.

Evidence-based—relevant scientific evidence that has undergone comprehensive review and rigorous analysis.

Project—those activities described in the application and supported under the approved budget.

Technical Assistance Conference Call: There will be an opportunity for prospective applicants to participate in a technical assistance conference call to be held within one month after publication of this Notice in the Federal Register. For more information regarding this opportunity, including date, registration information, and how to join the call, please consult the OPA Web site at http://opa.osophs.dhhs.gov.

Dated: May 1, 2007.
Evelyn M. Kappeler,
Acting Director, Office of Population Affairs.

[FR Doc. E7-8668 Filed 5-4-07; 8:45 am]

BILLING CODE 4150-34-P